DEPARTMENT OF TRANSPORTATION

Federal Aviation Administration

14 CFR Part 39

[Docket No. FAA-2012-0529; Directorate Identifier 2011-SW-050-AD]

RIN 2120-AA64

Airworthiness Directives; Agusta S.p.A. Helicopters

AGENCY: Federal Aviation Administration (FAA), DOT.

ACTION: Notice of proposed rulemaking (NPRM).

SUMMARY: We propose to adopt a new airworthiness directive (AD) for certain Agusta S.p.A. (Agusta) Model AW139 helicopters. This proposed AD is prompted by the discovery of improper installation of solder splices on the co-pilot audio system causing intermittent noise through the audio system during flight. The proposed actions are intended to prevent degradation and complete loss of communications between the pilot and co-pilot during flight, impairing the co-pilot's capability to react immediately to operational difficulties, which could lead to subsequent loss of control of the helicopter.

DATES: We must receive comments on this proposed AD by July 23, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Agusta Westland, Customer Support & Services, Via Per Tornavento 15, 21019 Somma Lombardo (VA) Italy, Attn: Giovanni Cecchelli; telephone 39-0331-711133; fax 39 0331 711180; or at http://www.agustawestland.com/technical-bullettins. You may review copies of the referenced service information at the FAA, Office of the Regional Counsel, Southwest Region, 2601 Meacham Blvd., Room 663, Fort Worth, Texas 76137.

FOR FURTHER INFORMATION CONTACT: John VanHoudt, Aerospace Engineer, FAA, Rotorcraft Directorate, Regulations and Policy Group, 2601 Meacham Blvd., Fort Worth, Texas 76137, telephone (817) 222-5167, email john.vanhoudt@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued AD No.: 2011-0140, dated July 20, 2011 (2011-0140), to correct an unsafe condition for certain Agusta AW139 helicopters. EASA advises that some occurrences of intermittent noise in the co-pilot audio system have been reported. The technical investigation carried out by Agusta showed that some of the solder splices on the audio panel were the possible cause of these malfunctions. This condition, if not detected and corrected, could impair the co-pilot's capability to react immediately to operational difficulties. The EASA AD requires inspecting the solder splices and related wires for their condition and for proper installation, and if required, replacing the solder splices.

FAA's Determination

These helicopters have been approved by the aviation authority of Italy and are approved for operation in the United States. Pursuant to our bilateral agreement with Italy, EASA, their technical representative, has notified us of the unsafe condition described in its AD. We are proposing this AD because we evaluated all information provided by EASA and determined that an unsafe condition is likely to exist or develop on other helicopters of the same type design.

Related Service Information

Agusta has issued Bollettino Tecnico (BT) No. 139-249, dated July 13, 2011 (BT 139-249), which specifies performing an inspection and manual pull-test of the solder splices and replacing any splices which fail the inspection or pull-test. EASA classified this BT as mandatory and issued 2011-0140 to ensure the continued airworthiness of these helicopters.

Proposed AD Requirements

This proposed AD would require, within 500 hours time-in-service (TIS) or 5 months or when an “AVIONICS FAULT” crew alerting system (CAS) message is displayed, whichever occurs first, replacing all solder splices identified in BT 139-249. The actions would be required to be accomplished by following specified portions of the service bulletin described previously.

Differences Between This Proposed AD and the EASA AD

The EASA AD requires performing a visual inspection and manual pull-test of the solder splices, while this proposed AD does not. The EASA AD requires compliance within 600 flight hours or 6 months, while this proposed AD would require compliance within 500 hours TIS or 5 months.

Costs of Compliance

We estimate that this proposed AD would affect 32 helicopters of U.S. Registry. We estimate that operators may incur the following costs in order to comply with this AD. Replacing the solder splices will require approximately 110 work-hours at an average labor cost of $85 per hour and required parts will cost $200, for a total cost per helicopter of $9,550 and a total cost to the U.S. operator fleet of $305,600.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “subtitle VII, part A, subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Agusta S.P.A. Helicopters: Docket No. FAA-2012-0529; Directorate Identifier 2011-SW-050-AD.

(a) Applicability

This AD applies to Agusta S.p.A. Model AW139 helicopters, serial numbers 31248, 31249, 41001 through 41023, 41201 through 41234, 41236, 41237 through 41255 (except 41240, 41242, 41246, 41249, 41251, and 41252), and 41257, certificated in any category.

(b) Unsafe Condition

This AD defines the unsafe condition as intermittent noise through the audio system during flight caused by improper installation of solder splices on the co-pilot's audio panel. This condition could result in degradation and complete loss of communications between the pilot and co-pilot during flight, impairing the co-pilot's capability to react immediately to operational difficulties, which could lead to subsequent loss of control of the helicopter.

(c) Compliance

You are responsible for performing each action required by this AD within the specified compliance time unless it has already been accomplished prior to that time.

(d) Required Action

Within 500 hours time-in-service or 5 months, or in the event of an AVIONICS FAULT crew alerting system (CAS) message, whichever occurs first, replace the co-pilot audio panel solder splices, listed in Tables 1 and 2 of Agusta Bollettino Tecnico No. 139-249, dated July 13, 2011 (ABT), in accordance with paragraphs 7.1 through 7.11. and Figures 12, 14, and 15 of the ABT.

(e) Alternative Methods of Compliance (AMOC)

(1) The Manager, Safety Management Group, FAA, may approve AMOCs for this AD. Send your proposal to: John VanHoudt, Aerospace Engineer, FAA, Rotorcraft Directorate, Regulations and Policy Group, 2601 Meacham Blvd., Fort Worth, Texas 76137, telephone (817) 222-5167, email john.vanhoudt@faa.gov.

(2) For operations conducted under 14 CFR part 119 operating certificate or under 14 CFR part 91, subpart K, we suggest that you notify your principal inspector, or lacking a principal inspector, the manager of the local flight standards district office or certificate holding district office before operating any aircraft complying with this AD through an AMOC.

(f) Additional Information

The subject of this AD is addressed in European Aviation Safety Agency (Italy) AD No.: 2011-0140, dated July 20, 2011.

(g) Subject

Joint Aircraft System Component (JASC) Code: 2397: Communications System Wiring.

Issued in Fort Worth, Texas, on May 10, 2012.
Kim Smith,
Manager, Rotorcraft Directorate, Aircraft Certification Service.

[FR Doc. 2012-12401 Filed 5-21-12; 8:45 am]

BILLING CODE 4910-13-P